DEPARTMENT OF THE INTERIOR

Bureau of Land Management

[BLM_AK_FRN_MO4500168917]

Notice of Public Meeting of the Alaska Resource Advisory Council

AGENCY: Bureau of Land Management, Interior.

ACTION: Notice of public meeting.

SUMMARY: In accordance with the Federal Land Policy and Management Act and the Federal Advisory Committee Act, the U.S. Department of the Interior, Bureau of Land Management's (BLM) Alaska Resource Advisory Council (RAC) will meet as follows.

DATES: The RAC will hold a hybrid public meeting, offering in-person and virtual attendance options, on Wednesday, May 24, 2023, from 9 a.m. to 2:30 p.m. with public comments accepted at 1 p.m.

ADDRESSES: Meeting links and participation instructions will be made widely available to the public via news media, social media, the BLM Alaska RAC web page at blm.gov/Alaska/RAC, and through personal contact 2 weeks prior to the meeting.

The May 24, 2023, meeting will be held virtually through Zoom and at the BLM Alaska State Office, 4th floor, 222 W 7th Avenue, Anchorage AK 99516. Virtual attendees are required to register online: https://blm.zoomgov.com/webinar/register/WN_HwHWqvidSaiW9FLGlQSDkw.

FOR FURTHER INFORMATION CONTACT: RAC Coordinator, Melinda Bolton, email: mbolton@blm.gov or telephone: (907) 271-3342. Individuals in the United States who are deaf, blind, hard of hearing, or have a speech disability may dial 711 (TTY, TDD, or TeleBraille) to access telecommunications relay services for contacting Melinda Bolton. Individuals outside the United States should use the relay services offered within their country to make international calls to the point-of-contact in the United States.

SUPPLEMENTARY INFORMATION: The Alaska RAC advises the Secretary of the Interior, through the BLM, on a variety of planning and management issues associated with BLM-managed public lands in Alaska. Topics for the meeting are as follows:

On May 24, 2023, the RAC will be briefed on co-stewardship projects, Bipartisan Infrastructure Law funds and accomplishments, and wildlife habitat management.

RAC meetings are open to the public. Each RAC meeting has time allotted for public comments. Depending on the number of people wishing to speak and the time available, the amount of time for verbal comments may be limited. Written public comments may be sent to the BLM Alaska State Office or RAC Coordinator listed in the FOR FURTHER INFORMATION CONTACT section of this notice. Written public comments will be provided to the Alaska RAC members.

Public Disclosure of Comments: Before including your address, phone number, email address, or other personal identifying information in your comment, you should be aware that your entire comment—including your personal identifying information—may be made publicly available at any time. While you can ask us in your comment to withhold your personal identifying information from public review, we cannot guarantee that we will be able to do so.

Meeting Accessibility/Special Accommodations: Please make requests in advance for sign language interpreter services, assistive listening devices, or other reasonable accommodations. We ask that you contact the person listed in the (see FOR FURTHER INFORMATION CONTACT) section of this notice at least seven (7) business days prior to the meeting to give the Department of the Interior sufficient time to process your request. All reasonable accommodation requests are managed on a case-by-case basis.

Detailed minutes for the RAC meetings are maintained by the BLM Alaska State Office. Minutes are also posted to the BLM Alaska RAC web page at www.blm.gov/Alaska/RAC.

(Authority: 43 CFR 1784.4-2)

Steven M. Cohn,
State Director, Bureau of Land Management Alaska.

[FR Doc. 2023-05224 Filed 3-14-23; 8:45 am]

BILLING CODE 4331-10-P